DEPARTMENT OF HOMELAND SECURITY

Federal Emergency Management Agency

44 CFR Part 67

[Docket ID FEMA-2014-0002]

Final Flood Elevation Determinations

AGENCY: Federal Emergency Management Agency, DHS.

ACTION: Final rule.

SUMMARY: Base (1% annual-chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated in the table below.

ADDRESSES: The final BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street SW., Washington, DC 20472, (202) 646-4064, or (email) Luis.Rodriguez3@fema.dhs.gov.

SUPPLEMENTARY INFORMATION: The Federal Emergency Management Agency (FEMA) makes the final determinations listed below for the modified BFEs for each community listed. These modified elevations have been published in newspapers of local circulation and ninety (90) days have elapsed since that publication. The Deputy Associate Administrator for Mitigation has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding source(s) | Location of referenced elevation | * Elevation in feet (NGVD) + Elevation in feet (NAVD) # Depth in feet above ground ‸ Elevation in meters (MSL) Modified | Communities affected
Ballard County, Kentucky, and Incorporated Areas
Docket No.: FEMA-B-1085
Cane Creek (backwater effects from Mississippi River) | From the confluence with Shawnee Creek Slough to approximately 2.3 miles upstream of confluence with Shawnee Creek Slough | +330 | Unincorporated Areas of Ballard County.
Hazel Creek (backwater effects from Ohio River) | From the confluence with Brushy Pond Creek to approximately 3.2 miles upstream of the confluence with Brushy Pond Creek | +331 | Unincorporated Areas of Ballard County.
Humphrey Creek (backwater effects from Ohio River | From the confluence with Lucy Creek to approximately 2,007 feet upstream of the confluence with Lucy Creek | +331 | Unincorporated Areas of Ballard County.
Humphrey Creek Tributary 9 (backwater effects from Ohio River) | From the confluence with Humphrey Creek to approximately 1,320 feet upstream of the confluence with Humphrey Creek | +331 | Unincorporated Areas of Ballard County.
Lucy Creek (backwater effects from Ohio River) | From the confluence with Humphrey Creek to approximately 0.45 mile upstream of the confluence with Humphrey Creek | +331 | Unincorporated Areas of Ballard County.
Mississippi River | Approximately 3.5 miles downstream of the confluence with the Ohio River | +329 | City of Wickliffe, Unincorporated Areas of Ballard County.
| Approximately 0.5 mile upstream of the confluence with Ohio River | +330
Ohio River | Approximately 3.0 miles upstream of the confluence with the Mississippi River | +330 | Unincorporated Areas of Ballard County.
| Approximately 6.3 miles upstream of Lock and Dam 53 | +334
Stovall Creek (backwater effects from Mississippi River) | From the confluence with the Mississippi River to approximately 1 mile upstream of Mayfield Road | +329 | Unincorporated Areas of Ballard County.
* National Geodetic Vertical Datum.
+ North American Vertical Datum.
# Depth in feet above ground.
‸ Mean Sea Level, rounded to the nearest 0.1 meter.
ADDRESSES
City of Wickliffe
Maps are available for inspection at 321 Court Street, Wickliffe, KY 42087.
Unincorporated Areas of Ballard County
Maps are available for inspection at 134 North 4th Street, Wickliffe, KY 42087.
Beaufort County, North Carolina, and Incorporated Areas
Docket No.: FEMA-B-1212
Aggie Run | At the Tranters Creek confluence | +11 | City of Washington, Unincorporated Areas of Beaufort County.
| Approximately 0.5 mile upstream of VOA Road | +12
Maple Branch | At the Tranters Creek confluence | +9 | City of Washington, Unincorporated Areas of Beaufort County.
| Approximately 1.3 miles upstream of U.S. Route 264 | +21
Mitchell Branch | At the Tranters Creek confluence | +9 | City of Washington, Unincorporated Areas of Beaufort County.
| Approximately 1,100 feet upstream of Cherry Run Road | +23
Tranter Creek | Approximately 250 feet downstream of the Mitchell Branch confluence | +9 | Unincorporated Areas of Beaufort County.
| Approximately 1.5 miles downstream of the Horsepen Swamp confluence | +14
* National Geodetic Vertical Datum.
+ North American Vertical Datum.
# Depth in feet above ground.
‸ Mean Sea Level, rounded to the nearest 0.1 meter.
ADDRESSES
City of Washington
Maps are available for inspection at City Hall, 102 East 2nd Street, Washington, NC 27889.
Unincorporated Areas of Beaufort County
Maps are available for inspection at the Beaufort County Administrative Offices, 121 West 3rd Street, Washington, NC 27889.
Pitt County, North Carolina, and Incorporated Areas
Docket No.: FEMA-B-1212
Back Swamp | At the downstream side of Weyerhaeuser Road | +41 | Town of Ayden, Town of Grifton, Unincorporated Areas of Pitt County.
| Approximately 300 feet upstream of Gas Plant lane | +62
Baldwin Swamp | At the Moyes Run/Cannon Swamp confluence | +17 | City of Greenville, Unincorporated Areas of Pitt County.
| Approximately 1.4 miles upstream of the Baldwin Swamp North Tributary confluence | +19
Baldwin Swamp North Tributary | At the Baldwin Swamp confluence | +17 | City of Greenville, Unincorporated Areas of Pitt County.
| At the downstream side of U.S. Route 264 Alternate | +20
Bates Branch | Approximately 60 feet upstream of the Juniper Branch confluence | +28 | Unincorporated Areas of Pitt County, Village of Simpson.
| Approximately 1,000 feet upstream of Simpson Street | +46
Bells Branch | Approximately 0.5 mile upstream of the Hardee Creek confluence | +20 | City of Greenville.
| Approximately 625 feet upstream of York Road | +56
Chicod Creek | Approximately 550 feet upstream of the Juniper Branch confluence | +15 | Town of Grimesland, Unincorporated Areas of Pitt County.
| At the downstream side of Mobleys Bridge Road | +15
Fork Swamp | Approximately 0.3 mile upstream of Fire Tower Road (State Route 1708) | +59 | City of Greenville, Town of Winterville, Unincorporated Areas of Pitt County.
| Approximately 330 feet upstream of Baywood Lane | +71
Fork Swamp Tributary 2 | Approximately 1,500 feet upstream of the Fork Swamp confluence | +53 | City of Greenville.
| Approximately 250 feet upstream of Fire Tower Road | +68
Fornes Run | Approximately 0.4 mile downstream of 14th Street | +28 | City of Greenville.
| Approximately 500 feet upstream of Elm Street | +60
Green Mill Run | Approximately 1,500 feet upstream of Dickinson Avenue | +55 | City of Greenville.
| Approximately 0.4 mile upstream of Allen Road | +69
Grindle Creek | Approximately 600 feet upstream of State Route 11 | +39 | Town of Bethel, Unincorporated Areas of Pitt County.
| Approximately 440 feet upstream of State Route 11 Business | +52
Horse Swamp | At the upstream side of Jolly Road | +52 | Unincorporated Areas of Pitt County.
| Approximately 0.4 mile upstream of Jolly Road | +54
Indian Well Swamp | Approximately 0.8 mile downstream of State Route 43 | +38 | Unincorporated Areas of Pitt County.
| Approximately 0.7 mile upstream of Ivy Road | +56
Lateral No. 2 | Approximately 0.4 mile upstream of the Parkers Creek confluence | +25 | City of Greenville.
| Approximately 1.1 miles upstream of the Parkers Creek confluence | +29
Meeting House Branch | At the Bells Branch confluence | +23 | City of Greenville.
| At King George Road | +37
Moyes Run-Cannon Swamp | Approximately 500 feet downstream of the Baldwin Swamp confluence | +17 | City of Greenville, Unincorporated Areas of Pitt County.
| At the downstream side of Old Creek Road | +25
Parkers Creek | Approximately 150 feet downstream of Old Creek Road | +22 | City of Greenville.
| Approximately 300 feet downstream of the Lateral No. 2 confluence | +23
Pea Branch | At the Tranters Creek confluence | +14 | Unincorporated areas of Pitt County.
| Approximately 1,250 feet upstream of the Tranters Creek confluence | +14
Reedy Branch | At Wright Road | +36 | City of Greenville.
| Approximately 400 feet upstream of the railroad | +68
Swift Creek | Approximately 0.4 mile upstream of Davenport Farm Road | +59 | City of Greenville, Town of Ayden, Town of Winterville, Unincorporated Areas of Pitt County.
| Approximately 360 feet upstream of Thomas Langston Road | +68
Swift Creek Tributary 2 | Approximately 0.6 mile upstream of Red Forbes Road | +60 | Town of Winterville, Unincorporated Areas of Pitt County.
| Approximately 0.7 mile upstream of Red Forbes Road | +62
Tranters Creek | Approximately 250 feet downstream of the Mitchell Branch confluence | +9 | Unincorporated Areas of Pitt County.
| Approximately 0.6 mile downstream of the Poley Branch confluence | +14
* National Geodetic Vertical Datum.
+ North American Vertical Datum.
# Depth in feet above ground.
‸ Mean Sea Level, rounded to the nearest 0.1 meter.
ADDRESSES
City of Greenville
Maps are available for inspection at the City of Greenville, 200 West 5th Street, Greenville, NC 27834.
Town of Ayden
Maps are available for inspection at the Pitt County Planning Department, 1717 West 5th Street, Greenville, NC 27834.
Town of Bethel
Maps are available for inspection at the Town Hall, 141 West Railroad Street, Bethel, NC 27812.
Town of Grifton
Maps are available for inspection at the Pitt County Planning Department, 1717 West 5th Street, Greenville, NC 27834.
Town of Grimesland
Maps are available for inspection at the Town Hall, 7592 Pitt Street, Grimesland, NC 27837.
Town of Winterville
Maps are available for inspection at the Town Hall, 2571 Railroad Street, Winterville, NC 28590.
Unincorporated areas of Pitt County
Maps are available for inspection at the Pitt County Planning Department, 1717 West 5th Street, Greenville, NC 27834.
Village of Simpson
Maps are available for inspection at the Village Hall, 2768 Thompson Street, Simpson, NC 27879.

State | City/town/county | Source of flooding | Location | * Elevation in feet (NGVD) + Elevation in feet (NAVD) # Depth in feet above ground ‸ Elevation in meters (MSL) Modified
Unincorporated Areas of Richmond County, North Carolina
Docket No.: FEMA-B-1158
North Carolina | Unincorporated Areas of Richmond County | Crooked Creek | At the Scotland County boundary | +242
|  |  | Approximately 0.8 mile upstream of County Line Road (State Route 1803) | +261
* National Geodetic Vertical Datum.
+ North American Vertical Datum.
# Depth in feet above ground.
‸ Mean Sea Level, rounded to the nearest 0.1 meter.
ADDRESSES
Unincorporated Areas of Richmond County
Maps are available for inspection at Richmond County Planning Department, 125 South Hancock Street, Rockingham, NC 28379.

Flooding source(s) | Location of referenced elevation | * Elevation in feet (NGVD) # Depth in feet above ground + Elevation in feet (NAVD) ‸ Elevation in meters (MSL) Modified | Communities affected
Dallas County, Texas, and Incorporated Areas
Docket Nos.: FEMA-B-7740, B-7756 and B-1194
Bachman Branch | Approximately 0.31 mile upstream of the Browning Branch confluence | +501 | City of Dallas.
| At the upstream side of Willow Lane | +593
Bear Creek | Approximately 406 feet upstream of S. Beltline Road | +446 | City of Desoto, City of Glenn Heights, City of Grand Prairie, City of Irving.
| Approximately 1,320 feet upstream of County Line Road | +479
Beckley Club Branch | Approximately 700 feet upstream of Elmore Avenue | +469 | City of Dallas.
| Approximately 275 feet downstream of Appian Way | +557
Bennett Branch | Approximately 650 feet downstream of Beltline Road | +433 | City of Mesquite.
| Approximately 1478 feet upstream of Plaza Drive | +470
Bentle Branch | Approximately 500 feet upstream of the Tenmile Creek confluence | +631 | City of Cedar Hill, City of Dallas, City of Duncanville.
| Approximately 190 feet upstream of County Highway 1382 | +754
Browning Branch | Approximately 750 feet downstream of Lake Hill Drive | +508 | City of Dallas.
| Approximately 150 feet upstream of Hollow Way Road | +547
Cedar Creek | At the upstream side of Ewing Avenue | +447 | City of Dallas.
| At the upstream side of Montclair Avenue | +540
Chalk Hill Branch | At the upstream side of Davis Street | +518 | City of Cockrell Hill, City of Dallas.
| At the upstream side of Clarendon Drive | +615
Coombs Creek | At the upstream side of Davis Road | +527 | City of Dallas.
| Approximately 650 feet upstream of Clarendon Drive | +601
Cottonwood Creek (of Lake Ray Hubbard) | Approximately 1,670 feet downstream of Stonewall Road | +447 | City of Dallas, City of Garland, City of Richardson, City of Rowlett, City of Wylie, Unincorporated Areas of Dallas County.
| Approximately 400 feet upstream of Highridge Drive | +486
Cottonwood Creek (of White Rock Creek) | Approximately 805 feet upstream of the White Rock Creek confluence | +502 | City of Dallas, City of Richardson, Unincorporated Areas of Dallas County.
| Approximately 0.40 mile upstream of Campbell Road | +666
Elmwood Branch | Approximately 800 feet upstream of Clarendon Drive | +501 | City of Dallas.
| At the upstream side of Wright Street | +593
Estes Branch | Approximately 413 feet downstream of Bruton Road | +471 | City of Dallas.
| Approximately 350 feet upstream of Saint Augustine Drive | +478
Floyd Branch (of White Rock Creek) | Approximately 1,300 feet upstream of the Cottonwood Creek confluence | +510 | City of Dallas, City of Richardson.
| At the downstream side of Polk Street | +620
Furneaux Creek | At the upstream side of President George Bush Turnpike | +450 | City of Carrollton.
| Approximately 0.41 mile upstream of Dickerson Parkway | +460
Hatfield Branch | At the intersection with Prairie Creek Road | +400 | City of Dallas.
| Approximately 4,660 feet downstream of the intersection with North Master's Drive | +482
Hickory Creek | Approximately 920 feet downstream from intersection with S. Woody Road | +399 | City of Balch Springs, City of Dallas.
| Approximately 700 feet upstream of C.F. Hawn Freeway | +430
Hollings Branch | Approximately 0.50 mile upstream of the North Hollings Branch confluence | +538 | City of Cedar Hill, City of Grand Prairie.
| Approximately 1,584 feet upstream of Ellis Road | +638
Hunt Branch | Approximately 900 feet upstream of the Cottonwood Creek (of White Rock Creek) confluence | +559 | City of Dallas, City of Richardson.
| At the downstream side of Belt Line Road | +613
Hutton Branch | At the upstream side of Belt Line Road | +443 | City of Carrollton, Town of Addison.
| Approximately 135 feet upstream of Midway Road | +605
Lake June Branch | Approximately 1,530 feet downstream from the intersection with Lake June Road | +455 | City of Dallas.
| At the downstream side of Oak Gate Lane | +491
Long Branch (of Duck Creek) | Approximately 5,710 feet downstream from intersection with Northwest Drive | +458 | City of Dallas, City of Garland, City of Mesquite.
| Approximately 200 feet downstream of I-635 | +553
Long Branch (of Duck Creek) Bypass | At the upstream side of the Long Branch (of Duck Creek) confluence | +490 | City of Mesquite.
| Approximately 460 feet upstream of the Long Branch (of Duck Creek) confluence | +493
Meadowdale Branch | Approximately 950 feet downstream of Rowlett Road | +468 | City of Garland.
| Approximately 150 feet downstream of Rowlett Road | +468
North Mesquite Creek | Approximately 0.61 mile downstream of Lawson Road | +379 | City of Balch Springs, City of Mesquite, Town of Sunnyvale, Unincorporated Areas of Dallas County.
| Approximately 205 feet downstream of Via Del Norte Road | +507
North Mesquite Creek Spill | At the upstream side of the North Mesquite Creek confluence | +481 | City of Mesquite.
| At the downstream side of Tripp Road | +488
Pleasant Branch | Approximately 440 feet downstream from intersection with Prairie Creek Road | +462 | City of Dallas.
| Approximately 273 feet upstream from intersection with Bohannon Drive | +498
Prairie Creek | Approximately 1,510 feet downstream from intersection with LBJ Freeway | +397 | City of Dallas.
| At the downstream side of Union Pacific Railroad | +524
Pruitt Branch | Approximately 2,423 feet downstream from intersection with Kingsfield Road | +411 | City of Dallas.
| Approximately 696 feet upstream of Ryoak Drive | +435
Richardson Branch | Approximately 540 feet downstream of intersection with Royal Lane | +491 | City of Dallas.
| At the downstream side of Forest Lane | +588
Rugged Branch | At the downstream side of Elmwood Boulevard | +549 | City of Dallas.
| Approximately 60 feet upstream of Berkley Avenue | +565
Rylie Branch | Approximately 0.38 mile upstream of the Hatfield Branch confluence | +409 | City of Dallas.
| Approximately 1,388 feet upstream from intersection with Old Seagoville Road | +456
South Branch of Cedar Creek | Approximately 100 feet downstream of I-35 East | +474 | City of Dallas.
| At the upstream side of Ohio Avenue | +528
South Branch of Cedar Creek Tributary 1 | At the upstream side of the South Branch of Cedar Creek confluence | +496 | City of Dallas.
| At the downstream side of Louisiana Avenue | +506
South Mesquite Creek | Approximately 0.61 mile downstream of Lawson Road | +383 | City of Balch Springs, City of Dallas, City of Mesquite.
| Approximately 1,905 feet downstream from intersection with Demaret Drive | +547
Stream 2A4 | Approximately 850 feet upstream of Dalrock Road | +453 | City of Dallas, City of Rowlett, Unincorporated Areas of Dallas County.
| Approximately 280 feet upstream from intersection with Oak Hollow Drive | +477
Stream 2A5 | Approximately 155 feet downstream from intersection with Pecan Lane | +439 | City of Dallas, City of Rowlett.
| At the upstream side of Dalrock Road | +467
Stream 2B1 | At the downstream side of Belt Line Road | +429 | City of Balch Springs, City of Mesquite.
| Approximately 840 feet downstream from intersection with Eastgate Drive | +464
Stream 2B2 | Approximately 150 feet upstream from intersection with Burton Road | +434 | City of Balch Springs, City of Mesquite.
| Approximately 0.25 mile upstream of I-635 | +453
Stream 2B3 | Approximately 425 feet upstream of the Stream 2B2 confluence | +446 | City of Mesquite.
| Approximately 500 feet upstream of the Stream 2B2 confluence | +449
Stream 2B4 | Approximately 1,930 feet downstream from the intersection with Military Parkway | +437 | City of Mesquite, Unincorporated Areas of Dallas County.
| Approximately 57 feet upstream of intersection with Kearney Street | +476
Stream 2B5 | Approximately 500 feet upstream of I-635 | +452 | City of Mesquite.
| Approximately 0.22 mile downstream of Town East Boulevard | +482
Stream 2B6 | Approximately 400 feet upstream of the South Mesquite Creek confluence | +473 | City of Mesquite.
| Approximately 42 feet downstream from intersection with Baker Drive | +503
Stream 2B7 | Approximately 800 feet downstream from intersection with Gus Thomasson Road | +470 | City of Mesquite.
| Approximately 437 feet upstream from intersection with I-30 | +521
Stream 2B8 | Approximately 700 feet upstream of the South Mesquite Creek confluence | +464 | City of Mesquite.
| Approximately 326 feet downstream from intersection with I-80 | +493
Stream 2E1 | At the upstream side of Kyle Road | +477 | City of Rowlett.
| Approximately 0.39 mile upstream of the Long Branch (of Lake Ray Hubbard) confluence | +486
Stream 2E10 | At the upstream side of Chiesa Road | +449 | City of Rowlett.
| Approximately 0.68 mile upstream of Chiesa Road | +470
Stream 2E2 | Approximately 0.49 mile downstream of Liberty Grove Road | +439 | City of Dallas, City of Rowlett.
| Approximately 1.09 miles upstream of Liberty Grove Road | +491
Stream 2E2 Tributary 1 | At the upstream side of the Stream 2E2 confluence | +466 | City of Rowlett.
| At the downstream side of Big Cemetery Road | +475
Stream 2E8 | Approximately 0.32 mile upstream of the Muddy Creek confluence | +471 | City of Garland, City of Rowlett, City of Sachse.
| Approximately 200 feet upstream of Merritt Road | +499
Stream 2J2 | At the upstream side of Brookhaven Drive | +494 | City of Mesquite.
| Approximately 600 feet downstream of American Lane | +503
Stream 4C3 | Approximately 40 feet upstream from the intersection with Kleberg Road | +400 | City of Dallas, City of Seagoville, Unincorporated Areas of Dallas County.
| At the upstream side of Belt Line Road | +455
Stream 5B11 | Approximately 400 feet upstream of the Floyd Branch confluence | +596 | City of Richardson.
| Approximately 350 feet downstream of Polk Street | +632
Stream 5B12 | Approximately 800 feet upstream of the Cottonwood Creek confluence | +585 | City of Dallas, City of Richardson.
| At the downstream side of Cullum Street | +660
Stream 6A1 | At the upstream side of Turtle Creek Boulevard | +474 | Town of Highland Park.
| Approximately 525 feet upstream of Beverly Drive | +526
Stream 6D1 | At the upstream side of East Jackson Road | +497 | City of Carrollton.
| Approximately 800 feet upstream of East Jackson Road | +502
Stream 6D3 | Approximately 900 feet upstream of the Hutton Branch confluence | +478 | City of Carrollton.
| Approximately 450 feet upstream of Old Trinity Mills Road | +554
Stream 6D4 | Approximately 190 feet from intersection with Scott Mill Road | +502 | City of Carrollton.
| At the upstream side of Scott Mill Road | +521
Stream 6D5 | Approximately 100 feet upstream of the Hutton Branch confluence | +493 | City of Carrollton.
| Approximately 500 feet upstream of Waterford Way | +523
Stream 6D7 | Approximately 300 feet upstream of Carmel Drive | +510 | City of Carrollton.
| Approximately 250 feet upstream of Briardale Drive | +525
Stream 6D8 | Approximately 390 feet downstream from intersection with Ballantrae Road | +562 | City of Carrollton.
| Approximately 780 feet downstream from intersection with Tarplex Road | +614
Stream JC-1 | Approximately 0.22 mile upstream of the Johnson Creek confluence | +449 | City of Grand Prairie.
| At the upstream side of West Tarrant Road | +502
Turtle Creek | At the downstream side of Blackburn Street | +448 | City of Dallas, Town of Highland Park.
| At the downstream side of Wycliff Avenue | +473
West Fork of South Mesquite Creek | At the upstream side of Peachtree Road | +461 | City of Mesquite.
| Approximately 150 feet downstream from intersection with Town East Boulevard | +503
White Rock Creek | At the upstream side of the Peaks Branch confluence | +408 | City of Dallas, Town of Addison.
| Approximately 0.40 mile upstream of the Hall Branch confluence | +588
* National Geodetic Vertical Datum.
+ North American Vertical Datum.
# Depth in feet above ground.
‸ Mean Sea Level, rounded to the nearest 0.1 meter.
ADDRESSES
City of Balch Springs
Maps are available for inspection at Public Works Department, 3117 Hickory Tree Road, Balch Springs, TX 75980.
City of Carrollton
Maps are available for inspection at Engineering Department, 1945 East Jackson Road, Carrollton, TX 75006.
City of Cedar Hill
Maps are available for inspection at City Hall, 285 Uptown Boulevard, Cedar Hill, TX 75104.
City of Cockrell Hill
Maps are available for inspection at City Hall, Department of Public Works, 4125 West Clarendon Drive, Cockrell Hill, TX 75211.
City of Dallas
Maps are available for inspection at Department of Public Works, 320 East Jefferson Boulevard, Room 321, Dallas, TX 75203.
City of Desoto
Maps are available for inspection at 211 East Pleasant Run Road, Building A, Desoto, TX 75115.
City of Duncanville
Maps are available for inspection at 203 East Wheatland Road., Duncanville, TX 75116.
City of Garland
Maps are available for inspection at City Hall, 800 Main Street, Garland, TX 75040.
City of Glenn Heights
Maps are available for inspection at 1938 South Hampton, Glenn Heights, TX 75154.
City of Grand Prairie
Maps are available for inspection at City Development Center, 206 West Church Street, Grand Prairie, TX 75051.
City of Irving
Maps are available for inspection at Public Works Department, 825 West Irving Boulevard, Irving, TX 75015.
City of Mesquite
Maps are available for inspection at Engineering Division, 1515 North Galloway Avenue, Mesquite, TX 75185.
City of Richardson
Maps are available for inspection at Engineering Office, 411 West Arapaho Road, Richardson, TX 75083.
City of Rowlett
Maps are available for inspection at City Hall, 4000 Main Street, Rowlett, TX 75088.
City of Sachse
Maps are available for inspection at the Community Development Department, 3815 Sachse Road, Building B, Sachse, TX 75048.
City of Seagoville
Maps are available for inspection at City Hall, 702 North U.S. Route 175, Seagoville, TX 75182.
City of Wylie
Maps are available for inspection at 114 North Ballard Avenue, Wylie, TX 75098.
Town of Addison
Maps are available for inspection at Public Works Department, 16801 Westgrove Drive, Addison, TX 75001.
Town of Highland Park
Maps are available for inspection at Public Works Department, 4300 MacArthur Avenue, Suite 160, Highland Park, TX 75205.
Town of Sunnyvale
Maps are available for inspection at Town Hall, 127 North Collins Road, Sunnyvale, TX 75182.
Unincorporated Areas of Dallas County
Maps are available for inspection at Dallas County Records Building, 509 Main Street, Dallas, TX 75202.

(Catalog of Federal Domestic Assistance No. 97.022, “Flood Insurance.”)

Dated: April 22, 2014.
Roy E. Wright,
Deputy Associate Administrator for Mitigation, Department of Homeland Security, Federal Emergency Management Agency.

[FR Doc. 2014-10157 Filed 5-2-14; 8:45 am]

BILLING CODE 9110-12-P